POSTAL REGULATORY COMMISSION

[Docket No. CP2019-210; Order No. 5202]

Inbound Parcel Post (at UPU Rates)

AGENCY: Postal Regulatory Commission.

ACTION: Notice.

SUMMARY: The Commission is acknowledging a recent Postal Service filing of its intention to change prices not of general applicability to be effective January 1, 2020. This document informs the public of the filing, invites public comment, and takes other administrative steps.

DATES: Comments are due: August 22, 2019.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Commission Action

IV. Ordering Paragraphs

I. Introduction

On August 14, 2019, the Postal Service filed notice announcing its intention to change prices not of general applicability for a certain portion of its Inbound Parcel Post (at Universal Postal Union (UPU) Rates) product effective January 1, 2020.¹

¹ Notice of the United States Postal Service of Filing Changes in Rates Not of General Applicability for Certain Inbound Parcel Post (at UPU Rates), and Application for Non-Public Treatment, August 14, 2019, at 1 (Notice).

II. Contents of Filing

In its Notice, the Postal Service proposes new prices for the UPU e-commerce delivery option (ECOMPRO). Notice at 2. ECOMPRO allows designated postal operators of UPU member countries, including the Postal Service, to mutually consent to certain delivery options, pursuant to UPU regulations for air parcel exchanges. Id. To support its proposed ECOMPRO prices, the Postal Service filed a redacted version of the proposed prices, a copy of the certification required under 39 CFR 3015.5(c)(2), and redacted copies of Governors' Decision 19-1. Notice at 3; see id., Attachments 2-4. The Postal Service also filed redacted financial workpapers. Notice at 3.

Additionally, the Postal Service filed an unredacted copy of Governors' Decision 19-1, the unredacted new prices, and related financial information under seal. See id. The Postal Service also filed an application for non-public treatment of materials, filed under seal. Notice, Attachment 1.

III. Commission Action

The Commission establishes Docket No. CP2019-210 for consideration of matters raised by the Notice and appoints Natalie R. Ward to serve as Public Representative in this docket.

The Commission invites comments on whether the Postal Service's filing is consistent with 39 U.S.C. 3632, 3633, and 39 CFR part 3015. Comments are due no later than August 22, 2019. The public portions of the filing can be accessed via the Commission's website (http://www.prc.gov). Non-public portions of the Postal Service's request(s), if any, can be accessed through compliance with the requirements of 39 CFR 3007.301.²

² See Docket No. RM2018-3, Order Adopting Final Rules Relating to Non-Public Information, June 27, 2018, Attachment A at 19-22 (Order No. 4679).

IV. Ordering Paragraphs

It is ordered:

1. The Commission establishes Docket No. CP2019-210 for consideration of the matters raised by the Postal Service's Notice.

2. Pursuant to 39 U.S.C. 505, Natalie R. Ward is appointed to serve as an officer of the Commission to represent the interests of the general public in this proceeding (Public Representative).

3. Comments are due no later than August 22, 2019.

4. The Secretary shall arrange for publication of this order in the Federal Register.

By the Commission.
Darcie S. Tokioka,
Acting Secretary.

[FR Doc. 2019-17965 Filed 8-20-19; 8:45 am]

BILLING CODE 7710-FW-P